DEPARTMENT OF HEALTH AND HUMAN SERVICES

Administration for Children and Families

Proposed Information Collection Activity; Comment Request

Proposed Projects

Title: Migrant and Seasonal Head Start Research Design Development Project.

OMB No.: New Collection.

Description: The Head Start Bureau (Migrant Head Start Branch) within the Administration for Children and Families of the U.S. Department of Health and Human Services is requesting comments on a pilot study that will be used to guide the development of appropriate and effective research designs for studying Migrant and Seasonal Head Start (MSHS) programs. This study is being conducted under contract with Westat, Inc. (with Aguirre International as its subcontractor) (#282-98-0015, Task Order #44) to collect information that will guide the development of appropriate and effective research designs that could be used in an eventual national evaluation of MSHS. Such an evaluation would serve to bridge the evaluation gap between MSHS and other Head Start programs. MSHS has been excluded from previous congressionally-mandated evaluations of Head Start due in large part to the difficulty of applying standard research designs to MSHS' highly transient population.

The Migrant and Seasonal Head Start Research Design Development Project Pilot Study will involve visits to six sites (three in the Fall and three in the Spring) where data collections will take place. Data collections will include interviews with program administrators, coordinators, teachers, parents, and other child care providers. There will also be some use of observational measures of classrooms and brief direct (one-to-one) assessments or parent and teacher reports for children ages 0-5, the full age spectrum served by the MSHS program. Data collection will take place during two time periods: Fall (October-November) 2003 and Summer (June-August) 2004.

The pilot study data will not be used to evaluate program performance or child outcomes, but to test the feasibility of different evaluation designs that could be used during an eventual national evaluation of MSHS programs. A primary issue to be tested is whether, or under what conditions, it is possible to assess program factors and child and family outcomes in different program sites among children and families who routinely migrate through multiple sites in a relatively unpredictable manner throughout a given growing season. Another issue to test is whether standardized measures of children's competencies, and parent/teacher reports of these competencies, are appropriate, for this largely Spanish-speaking sample, many of whom speak unique non-Spanish/non-English languages, and whose cultural backgrounds are also unique. This pilot study is also designed to determine how children and families can be tracked across these multiple sites, and determine the kinds and intensities of MSHS program services they obtain, including such aspects as children's curriculum and care, parent services, and coordination with community resources and services.

Respondents: Parents, Children, MSHS Teachers, MSHS Program Staff.

Annual Burden Estimates: Estimates Response Burden for Respondents to the Migrant and Seasonal Head Start Research Design Development Project.

Instrument | Number of respondents | Number of responses per respondent | Average burden hours per response | Total burden hours
MSHS Parent Interview I | 150 | 2 | .25 | 75.0
MSHS Parent Interview II | 75 | 2 | 1.5 | 225.0
MSHS Teacher Interview I | 6 | 1 | .50 | 3.0
MSHS Teacher Interview II | 6 | 19 | .50 | 57.0
MSHS Child Assessment (3-5 years) | 45 | 2 | .50 | 45.0
MSHS Child Assessment (0-3 years) | 12 | 2 | .33 | 7.92
MSHS Program Staff Interviews | 24 | 1 | .50 | 12.0
Estimated Total Annual Burden Hours |  |  |  | 424.92

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer, E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 19, 2003.
Robert Sargis,
Reports Clearance Officer.

[FR Doc. 03-16047 Filed 6-24-03; 8:45 am]

BILLING CODE 4184-01-M